DEPARTMENT OF LABOR

Office of the Secretary

Submission for OMB Review; Comment Request

January 12, 2000.

The Department of Labor (DOL) has submitted the following public information collection requests (ICR) to the Office of Management and Budget (OMB) for review and approval in accordance with the Paperwork Reduction Act of 1995 (Pub. L. 104-13, 44 U.S.C. Chapter 35). A copy of each individual ICR, with applicable supporting documentation, may be obtained by calling the Department of Labor. To obtain documentation for BLS, ETA, PWBA, and OASAM contact Karin Kurz ((202) 219-5096 ext. 159 or by E-mail to Kurz Karin@dol.gov). To obtain documentation for ESA, MSHA, OSHA, and VETS contact Darrin King ((202) 219-5096 ext. 151 or by E-mail to King-Darrin@dol.gov).

Comments should be sent to Office of Information and Regulatory Affairs, Attn.: OMB Desk Officer for BLS, DM, ESA, ETA, MSHA, OSHA, PWBA, or VETS, Office of Management and Budget, Room 10235, Washington, DC 20503 ((202) 395-7316), within 30 days from the date or this publication in the Federal Register.

The OMB is particularly interested in comments which:

* Evaluate whether the proposed collection of information is necessary for the proper performance of the functions of the agency, including whether the information will have practical utility;

* Evaluate the accuracy of the agency's estimate of the burden of the proposed collection of information, including the validity of the methodology and assumptions used;

* Enhance the quality, utility, and clarity of the information to be collected; and

* Minimize the burden of the collection of information on those who are to respond, including through the use of appropriate automated, electronic, mechanical, or other technological collection techniques or other forms of information technology, e.g., permitting electronic submission of responses.

Agency: Employment Standards Administration.

Title: Survey of Physicians Board Certified in Internet Medicine with a Sub-Speciality in Pulmonary Medicine, Pulmonary Clinics and Facilities.

OMB Number: 1215-ONEW.

Frequency: 1 Time.

Affected Public: Individuals or households; Business or other for-profit; and Not-for-profit institutions.

Number of Respondents: 2,000.

Total Burden Hours: 333 hours.

Total Annualized capital/startup costs: $0.

Total annual costs (operating/maintaining systems or purchasing services): $0.

Description: DCMWC will mail surveys to 2,000 specified physicians, clinics and facilities and utilize the results in determining whether to implement changes to the medical testing component of its program. The Department would like to ascertain the extent to which physicians, clinics and facilities, use spirometers that are capable of producing a flow-volume loop. In addition, the Department seeks information on the fees necessary to attract highly qualified physicians to perform the medical testing and evaluation that the Department is required to provide under the Black Lung Benefits Act. The information obtained from this survey will assist the Department in administering the program.

Ira L. Mills,
Departmental Clearance Officer.

[FR Doc. 00-1781 Filed 1-25-00; 8:45 am]

BILLING CODE 4510-27-M